DEPARTMENT OF DEFENSE

Department of the Air Force

U.S. Air Force Scientific Advisory Board Notice of Meeting

AGENCY: US Air Force Scientific Advisory Board, Department of the Air Force, DoD.

ACTION: Meeting Cancellation Notice.

SUMMARY: Due to difficulties, beyond the control of the U.S. Air Force Scientific Advisory Board or its Designated Federal Officer, the Board must cancel its October 13-14, 2011 meeting of the U.S. Air Force Scientific Advisory Board (76 FR 57026, September 15, 2011). Since the Department of the Air Force is unable to file a Federal Register notice cancelling the meeting within the 15-calendar day period the Advisory Committee Management Officer for the Department of Defense, pursuant to 41 CFR 102-3.150(b), waives the 15-calendar day notification requirement. The meeting was cancelled due to lack of approval of the Fiscal Year 2012 Board membership. This meeting will not be rescheduled.

FOR FURTHER INFORMATION CONTACT: The United States Air Force Scientific Advisory Board Executive Director and Designated Federal Officer, Lt Col Matthew E. Zuber, 240-612-5503, United States Air Force Scientific Advisory Board, 1500 West Perimeter Road, Ste. #3300, Joint Base Andrews, MD 20762, matthew.zuber@pentagon.af.mil

Bao-Anh Trinh,
DAF, Air Force Federal Register Liaison Officer.

[FR Doc. 2011-27140 Filed 10-19-11; 8:45 am]

BILLING CODE 5001-10-P